DEPARTMENT OF ENERGY

Federal Energy Regulatory Commission

[Project No. 1354-081]

Pacific Gas & Electric Company; Notice of Availability of Final Environmental Assessment

February 19, 2010.

In accordance with the National Environmental Policy Act of 1969, as amended, and the Federal Energy Regulatory Commission's (Commission) regulations (18 CFR Part 380), Commission staff has prepared a Final Environmental Assessment (FEA) regarding Pacific Gas & Electric Company's (PG&E) proposal to perform seismic remediation work at Crane Valley Dam, part of the Crane Valley Hydroelectric Project. The project occupies approximately 738 acres of federal lands within Sierra National Forest, approximately 40 miles northeast of the city of Fresno in Modesto County, California. Crane Valley Dam is located on North Fork Willow Creek, in the San Joaquin River Basin. The FEA analyzes the environmental effects of the seismic remediation proposal, PG&E's resource protection and mitigation plans, and recommends further measures to minimize any environmental effects. The FEA concludes that the proposed seismic remediation and resource plans, with the recommended measures, would not constitute a major federal action significantly affecting the quality of the human environment.

A copy of the FEA is available for review at the Commission's Public Reference Room, or it may be viewed on the Commission's Web site at http://www.ferc.gov using the “eLibrary” link. Enter the docket number (P-1354) in the docket number field to access the document. For assistance, call (202) 502-8222, or (202) 502-8659 (for TTY).

For further information on this notice, please contact B. Peter Yarrington at (202) 502-6129.

Kimberly D. Bose,
Secretary.

[FR Doc. 2010-4092 Filed 2-26-10; 8:45 am]

BILLING CODE 6717-01-P